DEPARTMENT OF HOUSING AND URBAN DEVELOPMENT

[Docket No. FR-5324-N-01]

Notice of Regulatory Waiver Requests Granted for the First Quarter of Calendar Year 2009

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2009 and ending on March 31, 2009.

FOR FURTHER INFORMATION CONTACT: For general information about this notice, contact Aaron Santa Anna, Assistant General Counsel for Regulations, Department of Housing and Urban Development, 451 7th Street, SW., Room 10276,Washington, DC 20410-0500, telephone (202) 708-3055 (this is not a toll-free number). Persons with hearing or speech-impairments may access this number through TTY by calling the toll-free Federal Information Relay Service at (800) 877-8339.

For information concerning a particular waiver that was granted and for which public notice is provided in this document, contact the person whose name and address follow the description of the waiver granted in the accompanying list of waivers that have been granted in the first quarter of calendar year 2009.

SUPPLEMENTARY INFORMATION:

Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall: a. Identify the project, activity, or undertaking involved; b. Describe the nature of the provision waived and the designation of the provision; c. Indicate the name and title of the person who granted the waiver request; d. Describe briefly the grounds for approval of the request; and e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from January 1, 2009 through March 31, 2009. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the first quarter of calendar year 2009) before the next report is published (the second quarter of calendar year 2009), HUD will include any additional waivers granted for the first quarter in the next report.

Accordingly, information about approved waiver requests pertaining to HUD regulations is provided in the Appendix that follows this notice.

Dated: June 24, 2009.
Helen R. Kanovsky,
General Counsel.

Appendix

Listing of Waivers of Regulatory Requirements Granted by Offices of the Department of Housing and Urban Development January 1, 2009 Through March 31, 2009

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 58.22(a).

Project/Activity: The Highlander Park Community Center Complex features a gym, a conference and meeting facility, a fitness center, a public library branch, outdoor sports courts, and a playground for the residents of Dunedin, Florida. After funding was appropriated by Congress, non-HUD funds were spent on the project prior to the performance of an environmental review in violation of 24 CFR 58.22(a). The project was funded as Economic Development Initiative Special Projects B-05-SP-FL-0432 and B-06-SP-FL-0203.

Nature of Requirement: HUD's regulations at 24 CFR 58.22 require an environmental review and a request for release of funds to be completed and certified before non-HUD funds can be used on a project.

Granted By: Nelson R. Bregón, General Deputy Assistant Secretary for Community Planning and Development.

Date Granted: March 16, 2009.

Reason Waived: The waiver was granted because errors were unintentional and the project had no adverse environmental impact and furthered agency objectives.

Contact: Danielle Schopp, Office of Environment and Energy, Office of Community Planning and Development, Department of Housing and Urban Development 451 7th Street SW., Room 7250, Washington, DC 20410-7000, telephone number (202) 402-4442.

• Regulation: 24 CFR 92.203(a)(1) and (2); 24 CFR 92.207; 24 CFR 92.222(b); 24 CFR 92.250(a); 24 CFR 92.251; 24 CFR 92.612(b); 24 CFR 92.254(a)(2); 24 CFR 92.254(b)(1); 24 CFR 92300(a)(1); 24 CFR 92.353(d); 24 CFR 92.602(a)(1); and 24 CFR 92.602(e).

Project/Activity: The damage to infrastructure and housing units, as well as the displacement of families caused by Hurricane Ike created an urgent need for assistance in Harris County, Texas, and required the waiver of various project or activity requirements in order to expedite use of funds in order to assist low-income home owners meet their housing needs.

Nature of Requirement: The purpose of the regulatory waivers is to assist a jurisdiction's disaster recovery efforts. The damage to infrastructure and housing units, as well as the displacement of families, caused by Hurricane Ike has created an urgent need for assistance in Harris County, Texas.

Granted By: Nelson R. Bregón, General Deputy Assistant Secretary for Community Planning and Development.

Date Granted: March 26, 2009

Reason Waived: Hurricane Ike caused significant wind and flood damage to homes and businesses in Harris County. Many households were displaced because of the storm. The waiver of the HOME Investment Partnerships Program regulations and statutory requirements will facilitate Harris County's recovery efforts following damage resulting from Hurricane Ike. Pursuant to the authority provided in Section 290 of NAHA, good cause exists to suspend HOME statutory requirements and waive HOME regulatory provisions for Harris County, a Presidentially-declared disaster area under Title IV of the Robert T. Stafford Act.

Contact: Ms. Virginia Sardone, Deputy Director, Office of Affordable Housing Programs, U.S. Department of Housing and Urban Development, Room 7162, 451 7th Street, SW., Washington, DC 20410.

II. Regulatory Waivers Granted by the Office of Housing—Federal Housing Administration (FHA)

For further information about the following regulatory waivers, please see the name of the contact person that immediately follows the description of the waiver granted.

• Regulation: 24 CFR 203.41(a)(5).

Project/Activity: Several nonprofit governmental organizations requested waiver of the section 501(c)(3) requirement in order to be placed on the FHA Nonprofit Organization Roster.

Nature of Requirement: On February 23, 2009, HUD issued a waiver of two requirements, codified at 24 CFR 203.41(a)(5) of the Department's regulations, relating to the eligibility of nonprofit organizations seeking placement on the FHA Nonprofit Organization Roster and approval providing secondary financing to a mortgagor for the property investment required by National Housing Act 203(b)(9). The regulations waived are: (1) 24 CFR 203.41(a)(5), which defines “eligible nonprofit organization,” in part, as an organization of the type described in section 501(c)(3) of the Internal Revenue Code (IRC) of 1986 as an organization exempt from Federal taxation under section 501(a) of the IRC; and (2) 24 CFR 203.41(a)(5)(ii), which requires that all nonprofit organizations participating in FHA programs have a voluntary board.

Granted By: Brian Montgomery, Assistant Secretary for Housing—Federal Housing Commissioner.

Date Granted: February 23, 2009.

Reason Waived: FHA received several requests from nonprofit instrumentalities of government seeking placement on the Roster and approval to provide secondary financing. Although these nonprofit instrumentalities satisfy all other FHA requirements for placement on the Roster and eligibility to provide secondary financing they are not organizations of the type described in section 501(c)(3). Their income is exempt from taxation under IRC 115. Thus they are ineligible for placement on the Roster as providers of secondary financing. This waiver will enable IRC 115 nonprofit government instrumentalities to be placed on the Roster so they can provide affordable housing opportunities to more Americans via secondary financing until the regulations are amended. In addition, the voluntary board requirement is waived for all nonprofit instrumentalities of government seeking placement on the FHA Roster and approval to participate in FHA programs as providers of secondary financing. This waiver will enable a nonprofit instrumentality of government to have a board member who is also a salaried employee of the governmental body in control of the nonprofit instrumentality.

Contact: Ruth Roman, Director, Office of Home Mortgage Insurance Division, Office of Single Family Housing, Office of Housing, Department of Housing and Urban Development, 451 7th Street SW., Room 9274, Washington, DC 20410-8000, telephone number (202) 708-0317.

• Regulation: 24 CFR 219.220(b).

Project/Activity: Faush-Metropolitan Manor (Jefferson County)—FHA Project Number 062-EH022. The project was awarded a Flexible Subsidy Operating Loan to maintain its financial soundness, improve the management and maintain the low-income character of the project. The owner requested a deferment of payment of the Flexible Subsidy Operating Assistance Loan.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time”.

Granted By: Brian D. Montgomery, Assistant Secretary for Housing—Federal Housing Commissioner.

Date Granted: March 27, 2009.

Reason Waived: This waiver was granted to allow the owner to refinance the Section 202 Direct Loan pursuant to section 223(f) of the National Housing Act without a requirement to pay in full the principal and interest due on the Flexible Subsidy Operating Assistance Loan. The repayment of the Flexible Subsidy Operating Assistance Loan will be re-amortized over the 35-year period of the Section 223(f) mortgage loan. Faush-Metropolitan Manor, Incorporated, will execute and record a rental Use Agreement extending the affordability of the project through the term of the new financing.

Contact: Beverly J. Miller, Director, Office of Asset Management, Office of Housing, Department of Housing and Urban Development, 451 7th Street, SW., Room 6160, Washington, DC 20410-8000, telephone number (202) 708-3730.

• Regulation: 24 CFR 219.220(b).

Project/Activity: Ansonborough Housing Corporation—FHA Project Number 054-EH032, Charleston, South Carolina. Seventy-seven units of the project receive Section 8 project-based rental assistance and require renovations to continue as a well-maintained source of affordable housing. Refinancing will provide sufficient funds for needed capital improvements at the property.

Nature of Requirement: Section 219.220(b) of HUD's regulations governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.”

Granted By: Brian D. Montgomery, Assistant Secretary for Housing—Federal Housing Commissioner.

Date Granted: January 22, 2009.

Reason Waived: This waiver was granted to allow the owner to amortize the flexible subsidy debt with the newly refinanced mortgage and to continue to operate the project after prepayment under a Use Agreement. There will be no monies leaving the project as a result of prepayment, and needed repairs allow long-term preservation of this affordable housing.

Contact: Beverly J. Miller, Director, Office of Asset Management, Office of Housing, Department of Housing and Urban Development, 451 7th Street, SW., Room 6160, Washington, DC 20410-8000, telephone number (202) 708-3730.

• Regulation: 24 CFR 236.60(g).

Project/Activity: Bethany Towers—FHA Project Number 067-44811, South Pasadena, Florida. The owner requested waiver of the requirement to provide a monthly report of Section 236 Excess Rental Income for the period January 2002 through August 2005.

Nature of Requirement: Section 236.60(g) of HUD's regulations governs Excess Income post-approval requirements. Excess Income consists of cash collected as rent from residents by the mortgagor on a unit-by-unit basis, that is in excess of the HUD-approved unassisted Basic Rent. The unit-by-unit requirement necessitates that, if a unit has Excess Income , the Excess Income must be returned to HUD. A mortgagor must submit a written request to retain Excess Income for non-project use to the local HUD Field Office. Excess Income retained by a mortgagor for non-project use may be used for any purpose, except that the non-project use of Excess Income by a nonprofit entity mortgagor is limited to activities that carry out the entity's nonprofit purpose. Post-approval requirements include a monthly report. A mortgagor approved to retain Excess Income must continue to prepare and submit to HUD a revised Form HUD-93104, Monthly Report of Excess Income, or successor form.

Granted By: Brian D. Montgomery, Assistant Secretary for Housing—Federal Housing Commissioner.

Date Granted: February 24, 2009.

Reason Waived: This regulatory waiver was granted to bring the owner into compliance with regulations governing monthly reporting of Section 236 Excess Rental Income. The Jacksonville Multifamily Hub approved Bethany Housing's request to retain the monthly excess rental income during the period January 2002 through 2005; however, the owner failed to comply with the monthly reporting requirement. The owner requested permission to prepay the mortgage loan and sell the project to a new entity as part of a Settlement Agreement with the Department. The purchasing entity agreed to infuse capital to address the project's physical and financial deficiencies, and execute and record a rental use agreement to preserve it as affordable low-income rental housing through the maturity date of the mortgage note, plus 20 years, to January 1, 2032.

Contact: Beverly J. Miller, Director, Office of Asset Management, Office of Housing, Department of Housing and Urban Development, 451 7th Street, SW., Room 6160, Washington, DC 20410-8000, telephone number (202) 708-3730.

• Regulation: 24 CFR 891.100(d).

Project/Activity: Cottonwood CILA, East Peoria, IL, Project Number: 072-HD153/IL06-Q071-002.

Nature of Requirement: Section 891.100(d) prohibits amendment of the amount of the approved capital advance funds prior to initial closing.

Granted By: Brian D. Montgomery, Assistant Secretary for Housing—Federal Housing Commissioner.

Date Granted: January 6, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number (202) 708-3000.

• Regulation: 24 CFR 891.100(d).

Project/Activity: Beautiful Light Inn, Whiteville, NC, Project Number: 053-EE167/NC19-S051-006

Nature of Requirement: Section 891.100(d) prohibits amendment of the amount of the approved capital advance funds prior to closing.

Granted By: Brian D. Montgomery, Assistant Secretary for Housing—Federal Housing Commissioner.

Date Granted: January 30, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone (202) 708-3000.

• Regulation: 24 CFR 891.100(d).

Project/Activity: Our Lady of Consolation, Basile, LA, Project Number: 064-EE218/LA48-S071-006.

Nature of Requirement: Section 891.100(d) prohibits amendment of the amount of the approved capital advance funds prior to closing.

Granted By: Brian D. Montgomery, Assistant Secretary for Housing—Federal Housing Commissioner.

Date Granted: February 3, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number (202) 708-3000.

• Regulation: 24 CFR 891.100(d).

Project/Activity: The Hempfield Apartments, Greenville, PA, Project Number: 033-EE130/PA28-S071-002.

Nature of Requirement: Section 891.100(d) prohibits amendment of the amount of the approved capital advance funds prior to closing.

Granted By: Brian D. Montgomery, Assistant Secretary for Housing—Federal Housing Commissioner.

Date Granted: February 25, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number (202) 708-3000.

• Regulation: 24 CFR 891.100(d).

Project/Activity: Palo Duro II, Oklahoma City, OK, Project Number: 117-HD039/OK56-Q071-002.

Nature of Requirement: Section 891.100(d) prohibits amendment of the amount of the approved capital advance funds prior to closing.

Granted By: Brian D. Montgomery, Assistant Secretary for Housing—Federal Housing Commissioner.

Date Granted: February 26, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number (202) 708-3000.

• Regulation: 24 CFR 891.100(d).

Project/Activity: Presbyterian Apartments of Northport II, Northport, AL, Project Number: 062-EE084/AL09-S071-001.

Nature of Requirement: Section 891.100(d) prohibits amendment of the amount of the approved capital advance funds prior to closing.

Granted By: Brian D. Montgomery, Assistant Secretary for Housing—Federal Housing Commissioner.

Date Granted: February 26, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number (202) 708-3000.

• Regulation: 24 CFR 891.100(d).

Project/Activity: Forrest City Independent Living, Forrest City, AR, Project Number: 082-HD098/AR37-Q071-002.

Nature of Requirement: Section 891.100(d) prohibits amendment of the amount of the approved capital advance funds prior to closing.

Granted By: Brian D. Montgomery, Assistant Secretary for Housing—Federal Housing Commissioner.

Date Granted: February 27, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number (202) 708-3000.

• Regulation: 24 CFR 891.100(d).

Project/Activity: Octavia Court, San Francisco, CA, Project Number: 121-HD087/CA39-Q061-002.

Nature of Requirement: Section 891.100(d) prohibits amendment of the amount of the approved capital advance funds prior to closing.

Granted By: Brian D. Montgomery, Assistant Secretary for Housing—Federal Housing Commissioner.

Date Granted: February 27, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number (202) 708-3000.

• Regulation: 24 CFR 891.100(d).

Project/Activity: Fruitland Lane Apartments, Coeur d' Alene, ID, Project Number: 124-HD013/ID13-Q071-001.

Nature of Requirement: Section 891.100(d) prohibits amendment of the amount of the approved capital advance funds prior to closing.

Granted By: Brian D. Montgomery, Assistant Secretary for Housing—Federal Housing Commissioner.

Date Granted: February 27, 2009.

Reason Waived: The project is economically designed and comparable in cost to similar projects in the area, and the sponsor/owner exhausted all efforts to obtain additional funding from other sources.

Contact: Willie Spearmon, Director, Office of Housing Assistance and Grant

Administration, Office of Housing, Department of Housing and Urban Development, 451 7th Street, SW., Room 6130, Washington, DC 20410-8000, telephone number (202) 708-3000.

• Regulation: 24 CFR 891.100(d).

Project/Activity: Pilgrim Place III, Houston, TX, Project Number: 114-EE135/TX24-S071-001.

Nature of Requirement: Section 891.100(d) prohibits amendment of the amount of the approved capital advance funds prior to closing.

Granted By: Brian D. Montgomery, Assistant Secretary for Housing—Federal Housing Commissioner.

Date Granted: March 4, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number (202) 708-3000.

• Regulation: 24 CFR 891.100(d).

Project/Activity: Cornerstone Community, Leavenworth, WA, Project Number: 127-HD039/WA19-Q071-002.

Nature of Requirement: Section 891.100(d) prohibits amendment of the amount of the approved capital advance funds prior to closing.

Granted By: Brian D. Montgomery, Assistant Secretary for Housing—Federal Housing Commissioner.

Date Granted: March 4, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number (202) 708-3000.

• Regulation: 24 CFR 891.100(d).

Project/Activity: Joseph's Dream, Bedford, VA, Project Number: 151-EE123/VA36-S071-008.

Nature of Requirement: Section 891.100(d) prohibits amendment of the amount of the approved capital advance funds prior to closing.

Granted By: Brian D. Montgomery, Assistant Secretary for Housing—Federal Housing Commissioner.

Date Granted: March 11, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number (202) 708-3000.

• Regulation: 24 CFR 891.100(d).

Project/Activity: ASI Watertown, Inc., Watertown, SD, Project Number: 091-HD012/SD99-Q071-001.

Nature of Requirement: Section 891.100(d) prohibits amendment of the amount of the approved capital advance funds prior to closing.

Granted By: Brian D. Montgomery, Assistant Secretary for Housing—Federal Housing Commissioner.

Date Granted: March 24, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number (202) 708-3000.

• Regulation: 24 CFR 891.100(d).

Project/Activity: Scottsdale Estates Group Home, Fredericksburg, VA, Project Number: 051-HD139/VA36-Q071-001.

Nature of Requirement: Section 891.100(d) prohibits amendment of the amount of the approved capital advance funds prior to closing.

Granted By: Brian D. Montgomery, Assistant Secretary for Housing—Federal Housing Commissioner.

Date Granted: March 26, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 7th Street, SW., Room 6130, Washington, DC 20410-8000, telephone number (202) 708-3000.

• Regulation: 24 CFR 891.100(d) and 24 CFR 891.165.

Project/Activity: Arcadia Place, Arcadia, LA, Project Number: 064-EE206/LA48-S061-006.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing—Federal Housing Commissioner.

Date Granted: February 3, 2009.

Reason Waived: The project is economically designed and comparable in cost to similar projects in the area, and the sponsor/owner exhausted all efforts to obtain additional funding from other sources. Additional time was needed for the sponsor/owner to obtain additional funds, for the firm commitment to be issued, and for the initial closing of the project.

Contact: Willie Spearmon, Director, Office of Housing Assistance and Grant Administration, Office of Housing, Department of Housing and Urban Development, 451 7th Street, SW., Room 6130, Washington, DC 20410-8000, telephone number (202) 708-3000.

• Regulation: 24 CFR 891.100(d) and 24 CFR 891.165.

Project/Activity: Arcadia Haven, Arcadia, LA, Project Number: 064-HD103/LA48-Q061-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing—Federal Housing Commissioner.

Date Granted: March 13, 2009.

Reason Waived: The project is economically designed and comparable in cost to similar projects in the area, and the sponsor/owner exhausted all efforts to obtain additional funding from other sources. Additional time was needed for the firm commitment to be issued and for initial closing of the project.

Contact: Willie Spearmon, Director, Office of Housing Assistance and Grant Administration, Office of Housing, Department of Housing and Urban Development, 451 7th Street, SW., Room 6130, Washington, DC 20410-8000, telephone number (202) 708-3000.

• Regulation: 24 CFR 891.100(d) and 24 CFR 891.165.

Project/Activity: Easter Seals Housing Solutions, Sheridan, WY, Project Number: 109-HD014/WY99-Q051-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted By: Brian D. Montgomery, Assistant Secretary for Housing—Federal Housing Commissioner.

Date Granted: March 18, 2009.

Reason Waived: The project is economically designed and comparable in cost to similar projects in the area, and the sponsor/owner exhausted all efforts to obtain additional funding from other sources. Additional time was needed for the firm commitment to be issued and for initial closing of the project.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: Kent Gardens Senior Community, San Lorenzo, CA, Project Number: 121-EE172/CA39-S041-003.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 5, 2009.

Reason Waived: Additional time was needed for the project to be initially closed.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: Piney Ridge II, Danville, VA, Project Number: 051-HD136/VA36-Q061-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 5, 2009.

Reason Waived: The sponsor/owner needed additional time for approval of site plans required by the City of Danville, Virginia, and for the firm commitment application to be submitted and processed.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: Village at French's Farm, Pembroke, NH, Project Number: 024-EE102/NH36-S061-002.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 5, 2009.

Reason Waived: The sponsor/owner needed additional time for approval of zoning and for the firm commitment application to be submitted and processed.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: SHDC No. 12, Kailua Kona, HI, Project Number: 140-HD030/HI10-Q041-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 5, 2009.

Reason Waived: Additional time was needed for the sponsor/owner to obtain a new contractor and for the project to be initially closed.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: Lil Jackson Senior Community, Oceanside, CA, Project Number: 129-EE032/CA33-S051-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 6, 2009.

Reason Waived: Additional time is needed for the City of Oceanside to complete the approval process and for the project to reach initial closing.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: Mulberry Manor, Wayne, WV, Project Number: 045-HD041/WV15-Q051-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 6, 2009.

Reason Waived: Additional time was needed for the sponsor/owner to resolve easement issues and obtain a new contractor.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: St. Ann's Catholic Senior Housing, Lansford, PA, Project Number: 034-EE149/PA26-S061-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 15, 2009.

Reason Waived: Additional time was needed for the Historic Preservation Advisory Council to review the Memorandum of Agreement executed for the site and for the project to reach initial closing.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: Surf Gardens, Brooklyn, NY, Project Number: 012-EE330/NY36-S031-003.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 26, 2009.

Reason Waived: Additional time was needed for the City of New York to complete the process for conveying the site to the owner and for the project to reach initial closing.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: Transitional Services for New York, New York, Project Number: 012-HD128/NY36-Q051-002.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 27, 2009.

Reason Waived: The sponsor/owner needed additional time to resolve City and Uniform Federal Accessibility Standards (UFAS) requirements regarding availability of handicapped accessible parking spaces and for the project to reach initial closing.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: Center of Hope, Southbridge, MA, Project Number: 023-HD221/MA06-Q051-002.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 30, 2009.

Reason Waived: The sponsor/owner needed additional time to secure additional funds, resolve design issues and for the project to reach initial closing.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: TELACU Housing San Bernardino IV, San Bernardino, CA, Project Number: 143-EE063/CA43-S061-002.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 30, 2009.

Reason Waived: Additional time was needed to resolve zoning and offsite issues and for the project to reach an initial closing.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: Alex Apartments, West Carrollton, OH, Project Number: 046-HD032/OH10-Q051-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: January 30, 2009.

Reason Waived: The sponsor/owner needed additional time to resolve litigation issues and for the project to reach initial closing.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: Gamwell Residence, Pittsfield, MA, Project Number: 023-HD226/MA06-Q061-002.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: February 3, 2009.

Reason Waived: The sponsor/owner needed additional time to secure secondary funding and for the project to be initially closed.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: Kowchuk, Lanesborough, MA, Project Number: 023-HD224/MA06-Q051-005.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: February 5, 2009.

Reason Waived: The sponsor/owner needed additional time to secure additional funds and obtain a new general contractor.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: SHDC No. 12, Kailua-Kona, HI, Project Number: 140-HD030/HI10-Q041-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: February 5, 2009.

Reason Waived: The sponsor/owner needed additional time to reconcile the legal description of the property and for the project to be initially closed.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: Acres Homes Garden Apartments, Houston, TX, Project Number: 114-HD031/TX24-Q051-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: February 24, 2009.

Reason Waived: The sponsor/owner needed additional time to select new members for their owner board, and for the firm commitment application to be processed.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: Eskaton Roseville Manor, Roseville, CA, Project Number: 136-EE081/CA30-S061-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: March 6, 2009.

Reason Waived: The sponsor/owner needed additional time to resolve issues with the firm commitment application and for the project to reach an initial closing.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: Transitional Services for New York, New York, Project Number: 012-HD128/NY36-Q051-002.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: March 19, 2009.

Reason Waived: The sponsor/owner needed additional time to resolve issues with the New York City Department of Buildings and for the project to reach an initial closing.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: Victory Crest, Chillum, MD, Project Number: 000-EE066/MD39-S061-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: March 20, 2009.

Reason Waived: The sponsor/owner needed additional time for the firm commitment to be reprocessed due to the contractor's increased costs and for the project to be initially closed.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: Garrett House, Wilmington, DE, Project Number: 032-HD036/DE26-Q061-002.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: March 24, 2009.

Reason Waived: The sponsor/owner needed additional time to resolve environmental issues and for the project to be initially closed.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: Villa Matti, Miami Beach, FL, Project Number: 066-EE111/FL29-S061-005.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: March 24, 2009.

Reason Waived: The sponsor/owner needed additional time to obtain approval of the project from Florida Department of Environmental Resources Management (DERM) and the City of Miami Beach, to secure secondary funding and for the project to reach initial closing.

Contact: Willie Spearmon, Director, Office of Housing Assistance and Grant Administration, Office of Housing, Department of Housing and Urban Development, 451 7th Street, SW., Room 6130, Washington, DC 20410-8000, telephone number (202) 708-3000.

• Regulation: 24 CFR 891.165.

Project/Activity: SHDC No. 12, Kailua-Kona, HI, Project Number: 140-HD030/HI10-Q041-001.

Nature of Requirement: Section 891.165 provides that the duration of the fund reservation of the capital advance is 18 months from the date of issuance with limited exceptions up to 24 months, as approved by HUD on a case-by-case basis.

Granted By: Brian D. Montgomery, Assistant Secretary for Housing—Federal Housing Commissioner.

Date Granted: March 24, 2009.

Reason Waived: The sponsor/owner needed additional time for the contractor to obtain a Performance Payment bond, and for the project to be initially closed.

Contact: Willie Spearmon, Director, Office of Housing Assistance and Grant Administration, Office of Housing, Department of Housing and Urban Development, 451 7th Street, SW., Room 6130, Washington, DC 20410-8000, telephone number (202) 708-3000.

• Regulation: 24 CFR 891.165 and 24 CFR 891.830(b) and 891.830(c)(4).

Project/Activity: Estabrook Senior Housing, San Leandro, CA, Project Number: 121-EE194/CA39-S061-006.

Nature of Requirement: Section 891.165 provides that the duration of the fund reservation of the capital advance is 18 months from the date of issuance with limited exceptions up to 24 months, as approved by HUD on a case-by-case basis. Section 891.830(b) requires that capital advance funds be drawn down only in an approved ratio to other funds in accordance with a draw down schedule approved by HUD. Section 891.830(c)(4) prohibits the capital advance funds from paying off bridge or construction financing, or repaying or collateralizing bonds.

Granted By: Brian D. Montgomery, Assistant Secretary for Housing—Federal Housing Commissioner.

Date Granted: January 5, 2009.

Reason Waived: Additional time was needed for the firm commitment to be issued and for the project to be initially/finally closed. In order to meet the 50 percent test of the Internal Revenue Service, a waiver was provided to allow the capital advance funds to be drawn down in one requisition after completion of construction at the initial/final closing of the project. To not delay the construction of this mixed finance project a waiver was approved to allow the capital advance funds to repay funds borrowed to pay for the construction of the project occurring prior to initial closing of the project.

Contact: Willie Spearmon, Director, Office of Housing Assistance and Grant Administration, Office of Housing, Department of Housing and Urban Development, 451 7th Street, SW., Room 6130, Washington, DC 20410-8000, telephone number (202) 708-3000.

• Regulation: 24 CFR 891.410(c)

Project/Activity: Blackberry-McCarr Senior Housing—FHA Project Number 083-EE089, McCarr, Kentucky. This project is located in the rural Appalachian Mountain region of Kentucky and is experiencing difficulty in leasing units to the very low-income elderly.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted By: Brian D. Montgomery, Assistant Secretary for Housing—Federal Housing Commissioner.

Date Granted: January 16, 2009

Reason Waived: This regulatory waiver was granted to assist the project in alleviating its current vacancy problems. The rural location does not offer many amenities such as shopping, medical facilities, pharmacies, etc., to attract qualified very low-income elderly applicants. Additional measures were instituted to improve occupancy but have not been successful. Waiver of this regulation allowed the owner to fill vacant units and thereby stabilize the project's current financial status and prevent foreclosure.

Contact: Beverly J. Miller, Director, Office of Asset Management, Department of Housing and Urban Development, 451 7th Street, SW., Washington, DC 20410, telephone (202) 708-3730, extension 2598.

• Regulation: 24 CFR 891.410(c).

Project/Activity: William Johnson Manor—FHA Project Number 075-EH383, Deer Park, Wisconsin. The project experienced difficulty leasing units to the very low-income elderly and requested a waiver of this restriction in order to permit admission of lower-income, near elderly applicants where there are no very low-income elderly applicants to fill vacant units.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted By: Brian D. Montgomery, Assistant Secretary for Housing—Federal Housing Commissioner.

Date Granted: March 6, 2009.

Reason Waived: This regulatory waiver was granted to assist the project in alleviating its vacancy problems at the time of the waiver request. Waiver of this regulation allowed the managing agent to lease units to very low-income, near elderly applicants when, at the time of the request, there were no very low-income elderly applicants on the waiting list, allowing stabilization of the project's then financial status and prevention of foreclosure.

Contact: Beverly J. Miller, Director, Office of Asset Management, Office of Housing, Department of Housing and Urban Development, 451 7th Street, SW., Room 6160, Washington, DC 20410-8000, telephone number (202) 708-3730.

• Regulation: 24 CFR 891.410(c).

Project/Activity: Harry and Velma Hamilton Villa—FHA Project Number 075-EE056, Wausau, Wisconsin. The property experienced difficulty in leasing vacant units to the very low-income elderly. The owner requested a waiver of this restriction in order to permit admission of low-income, near elderly applicants when, at the time of the request, there was no very low-income elderly applicant to fill vacant units.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted By: Brian D. Montgomery, Assistant Secretary for Housing—Federal Housing Commissioner.

Date Granted: March 6, 2009.

Reason Waived: This regulatory waiver was granted to cure the project's then vacancy problems. Waiver of this regulation permitted admission of applicants who meet the definition of low-income, near elderly, enabling the owner to improve the financial status of the project and prevent foreclosure. First priority was committed to be given to all qualified eligible applicants who meet the Section 202 very low-income guidelines.

Contact: Beverly J. Miller, Director, Office of Asset Management, Office of Housing, Department of Housing and Urban Development, 451 7th Street, SW., Room 6160, Washington, DC 20410-8000, telephone number (202) 708-3730.

• Regulation: 24 CFR 891.410(c).

Project/Activity: Red Lake Senior Apartments—FHA Project Number 092-EE087, Red Lake, Minnesota. This project experienced difficulty in leasing its vacant units to very low-income elderly applicants. The owner requested a waiver of this restriction in order to allow admission of low-income, near elderly applicants to fill vacant units.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted By: Brian D. Montgomery, Assistant Secretary for Housing—Federal Housing Commissioner.

Date Granted: March 3, 2009.

Reason Waived: This regulatory waiver was granted to assist the property with its then vacancy problems. The project is located within the boundaries of the Red Lake Reservation with no ability to attract very low-income elderly applicants. At the time of the request, there were four vacant units with three prospective applicants on the waiting list under the age of 62. Granting this waiver allowed the managing agent to rent to qualifying low-income near elderly applicants, provided flexibility to fill vacant units, and allowed the project to operate successfully and achieve full occupancy so that the project would not fail.

Contact: Beverly J. Miller, Director, Office of Asset Management, Office of Housing, Department of Housing and Urban Development, 451 7th Street, SW., Room 6160, Washington, DC 20410-8000, telephone (202) 708-3730.

• Regulation: 24 CFR 891.410(c).

Project/Activity: Alice Henke Villa—FHA Project Number 075-EE042, Tomahawk, Wisconsin. This project is located in a small, rural community with few conveniences for senior citizens. The owner/managing agent is having difficulty in maintaining full occupancy at the project.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted By: Brian D. Montgomery, Assistant Secretary for Housing—Federal Housing Commissioner.

Date Granted: March 13, 2009.

Reason Waived: Waiver of this requirement was granted to allow the owner/managing agent flexibility in renting up vacant units. The property, at the time of the waiver request, had 6 vacant units with no one on the waiting list. Providing a waiver of the very low-income elderly restriction would assist in stabilizing the project's then financial status and prevent foreclosure. First priority was committed to be given to all qualified eligible applicants who meet the Section 202 very low-income guidelines.

Contact: Beverly J. Miller, Director, Office of Asset Management, Office of Housing, Department of Housing and Urban Development, 451 7th Street, SW., Room 6160, Washington, DC 20410-8000, telephone number (202) 708-3730.

• Regulation: 24 CFR 891.410(c).

Project/Activity: Maple Leaf Housing—FHA Project Number 103-EE006, Plymouth, Nebraska. The owner requested waiver of the age and income requirement for this Supportive Housing for the Elderly project to assist with the vacancy problems they are experiencing.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted By: Brian D. Montgomery, Assistant Secretary for Housing—Federal Housing Commissioner.

Date Granted: February 10, 2009.

Reason Waived: Waiver of this regulation was granted to allow the owner/managing agent to rent vacant units to applicants who are low-income and near-elderly. The owner/managing agent aggressively marketed the property; however, a market analysis indicated that there was insufficient demand to fill units with low-income near elderly applicants. The property, at the time of the waiver request, had six vacant units with a low-income 37-year old applicant with a disability on the waiting list. Providing for a waiver of this requirement allowed the project to stabilize its then financial status and prevent foreclosure.

Contact: Beverly J. Miller, Director, Office of Asset Management, Office of Housing, Department of Housing and Urban Development, 451 7th Street, SW., Room 6160, Washington, DC 20410-8000, telephone number (202) 708-3730.

• Regulation: 24 CFR 891.410(c).

Project/Activity: Phelps Senior Housing—FHA Project Number 083-EE078, Phelps, Kentucky. This project is located in a rural area in the Appalachian Mountain region of Kentucky with no demand for low-income elderly housing. The project experienced difficulty in leasing its vacant units.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted By: Brian D. Montgomery, Assistant Secretary for Housing—Federal Housing Commissioner.

Date Granted: February 10, 2009.

Reason Waived: Waiver of the regulations governing age and income requirements has been granted to permit admission of low-income, near elderly applicants. The market analysis indicated that there was insufficient demand to fill the units with very low-income elderly applicants and applicants 62 years of age and older. This waiver allowed the owner to fill vacant units and develop a waiting list by expanding their leasing options with lower-income applicants between 55 and 62 years of age. First priority was committed to be given to all qualified eligible applicants who meet the Section 202 very low-income guidelines.

Contact: Beverly J. Miller, Director, Office of Asset Management, Office of Housing, Department of Housing and Urban Development, 451 7th Street, SW., Room 6160, Washington, DC 20410-8000, telephone number (202) 708-3730.

• Regulation: 24 CFR 891.410(c).

Project/Activity: Mary John Vanderloop Villa—FHA Project Number 075-EE022, Minocqua, Wisconsin. The project experienced difficulty in leasing units to the very low-income elderly applicants. The owner requested a waiver of this restriction in order to permit admission of lower-income, near elderly applicants where there are no very low-income applicants to fill vacant units.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted By: Brian D. Montgomery, Assistant Secretary for Housing—Federal Housing Commissioner.

Date Granted: February 20, 2009.

Reason Waived: Waiver of the regulations governing age and income requirements has been granted to permit admission of low-income, near elderly applicants. The owner/managing agent was unable to attract very low-income elderly persons. The project was having financial difficulty at the present occupancy level and the waiver would help the project achieve and maintain full occupancy for the long term viability of the project and continue serving a population in need of decent, safe, sanitary and affordable housing.

Contact: Beverly J. Miller, Director, Office of Asset Management, Office of Housing, Department of Housing and Urban Development, 451 7th Street, SW., Room 6160, Washington, DC 20410-8000, telephone number (202) 708-3730.

• Regulation: 24 CFR 891.410(c).

Project/Activity: Charles Hill Villa—FHA Project Number 075-EE061, Park Falls, Wisconsin. This project was having difficulty in maintaining sustaining occupancy and experiencing financial difficulty. The owner requested permission to admit low-income, near elderly applicants to fill vacant units.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted By: Brian D. Montgomery, Assistant Secretary for Housing—Federal Housing Commissioner.

Date Granted: February 20, 2009.

Reason Waived: Waiver of the regulations governing age and income requirements was granted to assist the project in reaching full occupancy. The owner/managing agent will be able to expand their leasing options, and stabilize the project's then financial status and prevent foreclosure. First priority will be given to all qualified eligible applicants who meet the elderly and very-low income guidelines.

Contact: Beverly J. Miller, Director, Office of Asset Management, Office of Housing, Department of Housing and Urban Development, 451 7th Street, SW., Room 6160, Washington, DC 20410-8000, telephone number (202) 708-3730.

• Regulation: 24 CFR 891.410(c).

Project/Activity: Richard Gurnoe Villa—FHA Project Number 075-EE138, Bayfield, Wisconsin. This project experienced severe difficulty in maintaining sustaining full occupancy.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted By: Brian D. Montgomery, Assistant Secretary for Housing—Federal Housing Commissioner.

Date Granted: February 24, 2009.

Reason Waived: Waiver of the regulations governing age and income requirements was granted to assist the project in reaching full occupancy. The owner/managing agent was able to expand leasing options, and stabilize the project's then financial status and prevent foreclosure. First priority was committed to be given to all qualified eligible applicants who meet the elderly and very low-income guidelines.

Contact: Beverly J. Miller, Director, Office of Asset Management, Office of Housing, Department of Housing and Urban Development, 451 7th Street, SW., Room 6160, Washington, DC 20410-8000, telephone number (202) 708-3730.

III. Regulatory Waivers Granted by the Office of Public and Indian Housing

For further information about the following regulatory waivers, please see the name of the contact person that immediately follows the description of the waiver granted.

• Regulation: 24 CFR 5.801(d)(1).

Project/Activity: Dallas Housing Authority, (TX009), Dallas, TX.

Nature of Requirement: The regulation establishes certain reporting compliance dates. The audited financial statements are required to be submitted to the Real Estate Assessment Center (REAC) no later than nine months after the housing authority's (HA) fiscal year end (FYE), in accordance with the Single Audit Act and OMB Circular A-133.

Granted By: Paula O. Blunt, General Deputy Assistant Secretary for Public and Indian Housing.

Date Granted: January 9, 2009.

Reason Waived: The HA requested a waiver and additional 45 days to submit its fiscal year December 31, 2007, audited data. The HA's original request dated March 28, 2008, was initially granted on May 16, 2008, with an extension of the due date to December 31, 2008, to submit audited data. The HA was granted the waiver and the additional time to allow the auditors ample time to thoroughly review all documents in order to approve and sign the audit. The HA was directed to submit its financial data for fiscal year end December 31, 2007, no later than February 14, 2009.

Contact: Myra E. Newbill, Program Manager, NASS, Real Estate Assessment Center, Office of Public and Indian Housing, Department of Housing and Urban Development, 550 12th Street, SW., Suite 100, Washington, DC 20410-5000, telephone number (202) 475-8988.

• Regulation: 24 CFR 5.801(d)(1).

Project/Activity: Rotan Housing Authority, (TX182), Rotan, TX.

Nature of Requirement: The regulation establishes certain reporting compliance dates. The audited financial statements are required to be submitted to the Real Estate Assessment Center (REAC) no later than nine months after the Housing Authority's (HA) fiscal year end (FYE) in accordance with the Single Audit Act and OMB Circular A-133.

Granted By: Paula O. Blunt, General Deputy Assistant Secretary for Public and Indian Housing.

Date Granted: January 15, 2009.

Reason Waived: The HA's audited financial submission for FYE December 31, 2007, was rejected by the Financial Assessment Subsystem (FASS) staff and the HA was given 15 days to correct and resubmit the financial data. The HA made the corrections and presented to the auditor, however, during this time the Executive Director resigned and accepted a new position. In the transition, the financial submission was not electronically submitted to the REAC by the resubmission due date causing the HA to receive a Late Presumptive Failure (LPF) score of zero. The circumstances that prevented the HA from resubmitting the audited financial data by the due date were beyond the control of the HA. The waiver granted invalidation of the LPF and resubmission of the audited financial data.

Contact: Myra E. Newbill, Program Manager, NASS, Real Estate Assessment Center, Office of Public and Indian Housing, Department of Housing and Urban Development, 550 12th Street, SW., Suite 100, Washington, DC 20410-5000, telephone number (202) 475-8988.

• Regulation: 24 CFR 5.801(d)(1).

Project/Activity: Peekskill Housing Authority, (NY082), Peekskill, NY.

Nature of Requirement: The regulation establishes certain reporting compliance dates. The audited financial statements are required to be submitted to the Real Estate Assessment Center (REAC) no later than nine months after the Housing Authority's (HA) fiscal year end (FYE) in accordance with the Single Audit Act and OMB Circular A-133.

Granted By: Paula O. Blunt, General Deputy Assistant Secretary for Public and Indian Housing.

Date Granted: January 16, 2009.

Reason Waived: The HA requested a waiver of its fiscal year ending (FYE) March 31, 2008, audited financial submission. The HA's waiver request stated that the termination of the Executive Director and other pertinent staff delayed the completion of the audit and the timely submission to REAC. The waiver was granted because the circumstances were beyond the control of the HA.

Contact: Myra E. Newbill, Program Manager, NASS, Real Estate Assessment Center, Office of Public and Indian Housing, Department of Housing and Urban Development, 550 12th Street, SW., Suite 100, Washington, DC 20410-5000, telephone number (202) 475-8988.

• Regulation: 24 CFR 5.801(d)(1).

Project/Activity: Knox County Housing Authority, (TN111), Knoxville, TN.

Nature of Requirement: The regulation establishes certain reporting compliance dates. The audited financial statements are required to be submitted to the Real Estate Assessment Center (REAC) no later than nine months after the housing authority's (HA) fiscal year end (FYE) in accordance with the Single Audit Act and OMB Circular A-133.

Granted By: Paula O. Blunt, General Deputy Assistant Secretary for Public and Indian Housing.

Date Granted: January 26, 2009.

Reason Waived: The HA's requested additional time to submit its fiscal year end (FYE) March 31, 2008, audited data which was due to the Department on December 31, 2008. The HA's waiver request stated that the audit scope needed to be expanded as a result of recently discovered evidence of fraudulent activity involving payroll disbursements. The waiver was granted because the circumstances that prevented the HA from submitting the audited financial data by the due date were beyond the control of the HA.

Contact: Myra E. Newbill, Program Manager, NASS, Real Estate Assessment Center, Office of Public and Indian Housing, Department of Housing and Urban Development, 550 12th Street, SW., Suite 100, Washington, DC 20410-5000, telephone number (202) 475-8988.

• Regulation: 24 CFR 5.801(d)(1).

Project/Activity: Avery Housing Authority, (TX310), Avery, TX.

Nature of Requirement: The regulation establishes certain reporting compliance dates. The audited financial statements are required to be submitted to the Real Estate Assessment Center (REAC) no later than nine months after the housing authority's (HA) fiscal year end (FYE) in accordance with the Single Audit Act and OMB Circular A-133.

Granted By: Paula O. Blunt, General Deputy Assistant Secretary for Public and Indian Housing.

Date Granted: February 9, 2009.

Reason Waived: The HA requested a waiver of its audited financial submission for fiscal year ending (FYE) March 31, 2008. The HA did not submit its audited financial information to the Department by December 31, 2008, due date as a result of a communication error relating to the receipt of operating subsidy audit add-on funding. The HA was granted a waiver and the financial information was submitted on January 19, 2009.

Contact: Myra E. Newbill, Program Manager, NASS, Real Estate Assessment Center, Office of Public and Indian Housing, Department of Housing and Urban Development, 550 12th Street, SW., Suite 100, Washington, DC 20410-5000, telephone (202) 475-8988.

• Regulation: 24 CFR 5.801(d)(1).

Project/Activity: Cass Lake Housing and Redevelopment Authority, (MN100), Cass Lake, MN.

Nature of Requirement: The regulation establishes certain reporting compliance dates. The audited financial statements are required to be submitted to the Real Estate Assessment Center (REAC) no later than nine months after the housing authority's (HA) fiscal year end (FYE) in accordance with the Single Audit Act and OMB Circular A-133.

Granted By: Paula O. Blunt, General Deputy Assistant Secretary for Public and Indian Housing.

Date Granted: February 18, 2009.

Reason Waived: The HA's audited financial submission was rejected by the Financial Assessment Subsystem (FASS) staff and the HA was given 15 days to correct and resubmit the financial data. As a result of a communication error the financial was not electronically submitted to REAC by the resubmission due date and the HA received a Late Presumptive Failure (LPF) score of zero. The waiver was granted because the circumstances were beyond the control of the HA.

Contact: Myra E. Newbill, Program Manager, NASS, Real Estate Assessment Center, Office of Public and Indian Housing, Department of Housing and Urban Development, 550 12th Street, SW., Suite 100, Washington, DC 20410-5000, telephone number (202) 475-8988.

• Regulation: 24 CFR 5.801(d)(1).

Project/Activity: Housing Authority of the City of Bremerton, (WA003), Bremerton, WA.

Nature of Requirement: The regulation establishes certain reporting compliance dates.

The audited financial statements are required to be submitted to the Real Estate Assessment Center (REAC) no later than nine months after the housing authority's (HA) fiscal year end (FYE) in accordance with the Single Audit Act and OMB Circular A-133.

Granted By: Paula O. Blunt, General Deputy Assistant Secretary for Public and Indian Housing.

Date Granted: March 24, 2009.

Reason Waived: The HA requested a waiver of its audited financial submission for fiscal year ending (FYE) September 30, 2008. The HA also administers Section 8 Housing Choice Voucher Program for the HA of Jefferson County (WA068) and the HA of Mason County (WA059) that have FYEs of June 30, 2008 and September 30, 2008, respectively. These housing authorities were unable to submit its audited financial information to the Department until April 20, 2009. Specifically, the Department is updating the FASS audited electronic submission template to be compliant with asset management. Additionally, the HA requested additional time to submit the audited financial data once the system is operational. The waiver was granted because it was beyond the control of the HA.

Contact: Myra E. Newbill, Program Manager, NASS, Real Estate Assessment Center, Office of Public and Indian Housing, Department of Housing and Urban Development, 550 12th Street, SW., Suite 100, Washington, DC 20410-5000, telephone number (202) 475-8988.

• Regulation: 24 CFR 5.801(d)(1).

Project/Activity: Hialeah Housing Authority, (FL066), Hialeah, FL

Nature of Requirement: The regulation establishes certain reporting compliance dates. The audited financial statements are required to be submitted to the Real Estate Assessment Center (REAC) no later than nine months after the housing authority's (HA) fiscal year end (FYE) in accordance with the Single Audit Act and OMB Circular A-133.

Granted By: Paula O. Blunt, General Deputy Assistant Secretary for Public and Indian Housing.

Date Granted: March 31, 2009.

Reason Waived: The HA stated that its audited financial submission was rejected by the Financial Assessment Subsystem (FASS) staff twice. The HA stated that the corrections were made for the first rejection. However, additional rejection issues were cited for the second rejection that were not included for the first rejection. Rejecting the submission a second time by REAC was necessary to ensure accurate financial data for the HA's Housing Choice Voucher (HCV). The waiver was granted. Specifically, the HA in conjunction with FASS staff are working closely to resolve reporting differences under the HCV program.

Contact: Myra E. Newbill, Program Manager, NASS, Real Estate Assessment Center, Office of Public and Indian Housing, Department of Housing and Urban Development, 550 12th Street, SW., Suite 100, Washington, DC 20410-5000, telephone number (202) 475-8988.

• Regulation: 24 CFR 5.801(d)(1).

Project/Activity: Dallas Housing Authority, (TX009), Dallas, Texas

Nature of Requirement: The regulation establishes certain reporting compliance dates. The audited financial statements are required to be submitted to the Real Estate Assessment Center (REAC) no later than nine months after the housing authority's (HA) fiscal year end (FYE) in accordance with the Single Audit Act and OMB Circular A-133.

Granted By: Paula O. Blunt, General Deputy Assistant Secretary for Public and Indian Housing.

Date Granted: March 31, 2009.

Reason Waived: The HA requested an original waiver of its audited financial submission due date of December 31, 2007 and was granted a due date extension to December 31, 2008. Subsequently, the HA requested and was granted a second extension to February 14, 2009. This third request for an extension to April 15, 2009 resulted from the need to transfer records between the former and current audit firms.

Contact: Myra E. Newbill, Program Manager, NASS, Real Estate Assessment Center, Office of Public and Indian Housing, Department of Housing and Urban Development, 550 12th Street, SW., Suite 100, Washington, DC 20410-5000, telephone number (202) 475-8988.

• Regulation: 24 CFR 902.20.

Project/Activity: Housing Authority of the Town of Erath (LA047), Erath, LA

Nature of Requirement: The objective of this regulation is to determine whether a housing authority (HA) is meeting the standard of decent, safe, sanitary, and in good repair. The Real Estate Assessment Center (REAC) provides for an independent physical inspection of a HA's property of properties that includes a statistically valid sample of the units.

Granted By: Paula O. Blunt, General Deputy Assistant Secretary for Public and Indian Housing.

Date Granted: February 26, 2009.

Reason Waived: The housing authority (HA) requested a waiver from physical inspections under the Physical Assessment Subsystem (PASS) for fiscal years ending (FYE) December 31, 2008 and 2009. The HA had severe damage to twenty two units from Hurricane Ike. In addition, there are still fourteen units off-line from Hurricane Ike. The waiver was granted because the circumstances were beyond the control of the HA.

Contact: Myra E. Newbill, Program Manager, NASS, Real Estate Assessment Center, Office of Public and Indian Housing, Department of Housing and Urban Development, 550 12th Street, SW., Suite 100, Washington, DC 20410-5000, telephone number (202) 475-8988.

• Regulation: 24 CFR 905.10(f)(2) and (i)(5).

Project/Activity: Chester Housing Authority (CHA), Chester, PA, Feb 6 Nature of Requirement:

Nature of Requirement: The regulations restrict use of Replacement Housing Factor (RHF) funds to the development of public housing rental units.

Granted By: Paula O. Blunt, General Deputy Assistant Secretary for Public and Indian Housing.

Date Granted: February 6, 2009.

Reason Waived: Additional funds were needed to construct a CHA administration building to serve as a gateway within a distressed area. Regulatory waiver was granted to secure project and a timely release of funds.

Contact: Dominique Blom, Deputy Assistant Secretary for the Office of Public Housing Investments, Office of Public and Indian Housing, 451 7th Street, SW., Room 4130, Washington, DC 20140-5000, telephone number (202) 402-4181.

• Regulation: 24 CFR 941.610(a)(1)-(a)(7).

Project/Activity: Charlotte Housing Authority (CHA), NC.

Nature of Requirement: The regulation requires HUD review and approval of certain legal documents related to mixed-finance development before closing occurs and public housing funds released. CHA requested a waiver of prior HUD approval for Seneca Woods.

Granted By: Paula O. Blunt, General Assistant Secretary for Public and Indian Housing.

Date Granted: January 9, 2009.

Reason Waived: CHA agreed to submit documentation which certifies, in form specified by HUD, to the accuracy and authenticity of the required legal documents. The waiver streamlined the review process, expedited closing and enhanced public housing production.

Contact: Dominique Blom, Deputy Assistant Secretary for the Office of Public Housing Investments, Office of Public and Indian Housing, 451 7th Street, SW., Room 4130, Washington, DC 20140-5000, telephone number (202) 402-4181.

• Regulation: 24 CFR 941.610(a)(1)-(a)(7).

Project/Activity: Charlotte Housing Authority (CHA), NC.

Nature of Requirement: The regulation requires HUD review and approval of certain legal documents related to mixed-finance development before closing occurs and public housing funds released. CHA requested a waiver of prior HUD approval for Fairmarket Square.

Granted By: Paula O. Blunt, General Assistant Secretary, Public and Indian Housing.

Date Granted: January 16, 2009.

Reason Waived: CHA agreed to submit documentation which certifies, in form specified by HUD, to the accuracy and authenticity of the required legal documents. The waiver streamlined the review process, expedited closing and enhanced public housing production.

Contact: Dominique Blom, Deputy Assistant Secretary for the Office of Public Housing Investments, Office of Public and Indian Housing, 451 7th Street, SW., Room 4130, Washington, DC 20140-5000, telephone number (202) 402-4181.

• Regulation: 24 CFR 941.610(a)(1)-(a)(7).

Project/Activity: King County Housing Authority (KCHA), WA.

Nature of Requirement: The regulation requires HUD review and approval of certain legal documents related to mixed-finance development before closing occurs and public housing funds released. CHA requested a waiver of prior HUD approval for Eastbridge.

Granted By: Paula O. Blunt, General Assistant Secretary for Public and Indian Housing.

Date Granted: February 13, 2009.

Reason Waived: KCHA agreed to submit documentation which certifies, in form specified by HUD, to the accuracy and authenticity of the required legal documents. The waiver streamlined the review process, expedited closing and enhanced public housing production.

Contact: Dominique Blom, Deputy Assistant Secretary for the Office of Public Housing Investments, Office of Public and Indian Housing, 451 7th Street, SW., Room 4130, Washington, DC 20140-5000, telephone number (202) 402-4181.

• Regulation: 24 CFR 960.206(b).

Project/Activity: Allentown Housing (AHA), Allentown, PA.

Nature of Requirement: The regulation requires non-discriminatory and equal opportunity for waiting list admissions. AHA requested a ranking admission preference to people with specific disabilities.

Granted By: Paula O. Blunt, General Deputy Assistant Secretary for Public and Indian Housing.

Date Granted: February 26, 2009.

Reason Waived: The waiver permitted occupancy by a household with a person who has severe and persistent mental illness and who was ready for discharge from Community Rehabilitation Residences, at risk of homelessness and a client of Lehigh County's supportive services program. Any individual, regardless of income, who completes the registration process, is designated as a client of the County.

Contact: Dominique Blom, Deputy Assistant Secretary for the Office of Public Housing Investments, Office of Public and Indian Housing, 451 7th Street, SW., Room 4130, Washington, DC 20140-5000, telephone number (202) 402-4181.

• Regulation: 24 CFR 982.505(d).

Project/Activity: Housing Authority of the County of Santa Clara (HACSC), San Jose, CA.

Nature of Requirement: The regulation states that a public housing agency may only approve a higher payment standard for a family as a reasonable accommodation if the higher payment standard is within the basic range of 90 to 110 percent of the fair market rent (FMR) for the unit size. The HACSC requested a waiver so to provide reasonable accommodations to a person with disabilities.

Granted By: Paula O. Blunt, General Deputy Assistant Secretary for Public and Indian Housing.

Date Granted: March 18, 2009.

Reason Waived: The applicant required an accessible, zero-bedroom unit in proximity to care providers. For this applicant to pay no more than 40 percent of adjusted income toward the family share, HACSC was allowed to approve an exception payment standard that exceeded the basic range of 90 to 110 percent of the FMR.

Contact: Laure Rawson, Director, Housing Voucher Management and Operations Division, Office of Public Housing and Voucher Programs, Office of Public and Indian Housing, Department of Housing and Urban Development, 451 7th Street, SW., Room 4210, Washington, DC 20410-5000, telephone number (202) 708-0477.

• Regulation: 24 CFR 982.637(a)(2).

Project/Activity: Augusta Housing Authority, (AHA) Augusta, ME.

Nature of Requirement: The regulation states that a PHA may not commence continued tenant-based assistance for occupancy of a new unit so long as any family member owns title or other interest in the prior home.

Granted By: Paula O. Blunt, General Deputy Assistant Secretary for Public and Indian Housing.

Date Granted: January 7, 2009.

Reason Waived: The subject homeownership unit is subject to court action for substandard roof repairs. A mortgage moratorium was instituted under a USDA Rural Development 502 loan. Until repair of the roof, the applicant received a waiver for temporary tenant-based HCV rental assistance for up to 24 months.

Contact: Laure Rawson, Director, Housing Voucher Management and Operations Division, Office of Public Housing and Voucher Programs, Office of Public and Indian Housing, Department of Housing and Urban Development, 451 7th Street, SW., Room 4210, Washington, DC 20410-5000, telephone number (202) 708-0477.

[FR Doc. E9-15482 Filed 6-29-09; 8:45 am]

BILLING CODE 4210-67-P